DEPARTMENT OF THE INTERIOR

Bureau of Land Management

[WY-957-04-1420-BJ]

Notice of Filing of Plats of Survey, Wyoming

AGENCY: Bureau of Land Management, Interior.

SUMMARY: The Bureau of Land Management (BLM) has filed the plats of survey of the lands described below in the BLM Wyoming State Office, Cheyenne, Wyoming, on May 28, 2004.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the dependent resurvey of a portion of the subdivisional lines, and the subdivision of section 10, Township 14 North, Range 106 West, Sixth Principal Meridian, Wyoming, was accepted May 28, 2004.

The plat and field notes representing the dependent resurvey of the Seventh Standard Parallel North, through Range 108 West, the Thirteenth Auxiliary Guide Meridian West, through Township 29 North, between Ranges 108 and 109 West, the east and north boundaries and subdivisional lines, Township 29 North, Range 108 West, Sixth Principal Meridian, Wyoming, was accepted May 28, 2004.

Copies of the preceding described plats and field notes are available to the public at a cost of $1.10 per page.

Dated: June 1, 2004.
John P. Lee,
Chief Cadastral Surveyor, Division of Support Services.

[FR Doc. 04-12782 Filed 6-4-04; 8:45 am]

BILLING CODE 4310-22-P